DEPARTMENT OF LABOR

Employment and Training Administration

[TA-W-64,160]

Boise Cascade, LLC; Wood Products Division; St. Helens, OR; Notice of Negative Determination on Reconsideration

On December 10, 2008, the Department issued an Affirmative Determination Regarding Application for Reconsideration for the workers and former workers of the subject firm. The notice was published in the Federal Register on December 18, 2008 (73 FR 77063-77064).

The initial investigation resulted in a negative determination based on the finding that imports of softwood veneer did not contribute importantly to worker separations at the subject firm and no shift of production to a foreign source occurred.

The petitioner alleged that imports of softwood lumber and plywood from Canada have a strong influence on the United States softwood market and caused layoffs at the subject facility. The petitioner seems to allege that because imports of non-petroleum articles and, specifically imports from China, were at a record during August 2008, workers of the subject firm should be eligible for Trade Adjustment Assistance.

In order to establish import impact and whether imports contributed importantly to worker separations, the Department must consider imports that are like or directly competitive with those produced at the subject firm. The “contributed importantly” test is generally demonstrated through a survey of customers of the workers' firm regarding their import purchases.

On reconsideration the Department conducted a survey of all the subject firm's customers regarding purchases of softwood veneer and like or directly competitive products during 2006, 2007 and during January through September 2008. The survey revealed that the customers did not increase their imports of softwood veneer in 2006, 2007 and during January through September 2008 over the corresponding 2007 period.

Furthermore, United States aggregate imports of veneer decreased from 2006 to 2007 and from January through November 2008 over the corresponding 2007 period.

Conclusion

After reconsideration, I affirm the original notice of negative determination of eligibility to apply for worker adjustment assistance for workers and former workers of Boise Cascade, LLC, Wood Products Division, St. Helens, Oregon.

Signed at Washington, DC, this 21st day of January 2009.
Elliott S. Kushner,
Certifying Officer, Division of Trade Adjustment Assistance.

[FR Doc. E9-2735 Filed 2-9-09; 8:45 am]

BILLING CODE 4510-FN-P